FEDERAL DEPOSIT INSURANCE CORPORATION

Agency Information Collection Activities; Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. section 3501 et seq.), the FDIC hereby gives notice that it plans to submit to the Office of Management and Budget (OMB) a request for OMB review and approval of the information collection system described below.

Type of Review: Renewal of a currently approved collection.

Title: Certified Statement for Semiannual Deposit Insurance Assessment.

Form Number: 6420/07A.

OMB Number: 3064-0057.

Annual Burden:

Estimated annual number of responses: 19,400.

Estimated time per response: 15 minutes.

Average annual burden hours: 4,850 hours.

Expiration Date of OMB Clearance: September 30, 2002.

OMB Reviewer: Joseph Lackey, (202) 395-4741, Office of Management and Budget, Office of Information and Regulatory Affairs, Washington, DC 20503.

FDIC Contact: Tamara R. Manly, (202) 898-7453, Legal Division, Room MB-3109, Federal Deposit Insurance Corporation, 550 17th Street NW., Washington, DC 20429.

Comments: Comments on this collection of information are welcome and should be submitted on or before September 23, 2002 to both the OMB reviewer and the FDIC contact listed above.

ADDRESSES: Information about this submission, including copies of the proposed collection of information, may be obtained by calling or writing the FDIC contact listed above.

SUPPLEMENTARY INFORMATION: Certified statements are prepared to report and certify deposit liabilities and to compute the assessment payment due for deposit insurance protection.

Dated: August 7, 2002.
Federal Deposit Insurance Corporation.
Robert E. Feldman,
Executive Secretary.

[FR Doc. 02-21451 Filed 8-21-02; 8:45 am]

BILLING CODE 6714-01-P